DEPARTMENT OF THE INTERIOR

Bureau of Reclamation

[INT-FES-02-24]

Angostura Unit, Pick-Sloan Missouri River Basin Project, South Dakota

AGENCY: Bureau of Reclamation, Interior.

ACTION: Notice of availability for final environmental impact statement (FEIS).

SUMMARY: Pursuant to section 102(2)(C) of the National Environmental Policy Act of 1969, as amended, the Department of the Interior, Bureau of Reclamation, has completed an FEIS on the proposed renewal of a long-term water service contract for irrigation water from the Angostura Unit, Cheyenne River Basin, South Dakota. The FEIS describes four alternatives, including no action, and evaluates the environmental consequences of each of these alternatives. Reclamation's preferred alternative is the Improved Efficiencies alternative.

DATES: The DEIS was issued on January 18, 2001. Responses to comments received from agencies, interested organizations, and individuals on the DEIS are addressed in the FEIS. No decision will be made on the proposed action until 30 days following the release of the FEIS. Following the 30-day waiting period, Reclamation will complete and sign a Record of Decision (ROD). The ROD will describe the action to be implemented and will discuss factors contributing to that decision.

ADDRESSES: Printed copies of a Summary of the FEIS or the entire FEIS (with appendices) may be obtained from Kenneth Parr, Dakotas Area Office, Rapid City Field Office, 515 9th Street, Room 101, Rapid City, SD 57701 or by telephone at (605) 394-9757 x3004 or by e-mail at kparr@gp.usbr.gov. Copies are also available for public inspection and review on the Internet at “http://www.gp.usbr.gov” in the “Current Activities” section under “Environmental Activities”, and at the locations listed in the Supplementary Information section at the end of this notice.

FOR FURTHER INFORMATION CONTACT: Kenneth Parr, Dakotas Area Office, Rapid City Field Office, 515 9th Street, Room 101, Rapid City, SD 57701 or by telephone at (605) 394-9757 x3004 or e-mail kparr@gp.usbr.gov.

SUPPLEMENTARY INFORMATION: The FEIS considers the effects of renewing a long-term water service contract with the Angostura Irrigation District. The authority for contract renewal is found in the Act of July 2, 1956, 70 Stat. 483, and the Act of June 21, 1963, 77 Stat. 68, which requires the Secretary of the Department of the Interior to renew long-term water service contracts upon request.

The Angostura Unit has been providing supplemental irrigation water to the irrigation district since 1953. The original long-term water service contract had a term of 40 years and expired in 1996. In order to continue the rights and obligations of the original contracts during the contract renewal process, the Angostura Irrigation District has been operating under a temporary contract.

The FEIS describes four alternatives, including no action, reestablishment of natural flows below the dam, improved efficiencies, and reservoir recreation and fisheries alternatives, and evaluates the environmental consequences of each of the alternatives. The FEIS considered the following issues: surface water quantity, surface water quality, groundwater, sediment, stream corridor, wetlands, fisheries, wildlife, threatened and endangered species, social and economic conditions, Indian trust assets, environmental justice, cultural resources, paleontological resources, and cumulative impacts.

The Improved Efficiencies Alternative is Reclamation's preferred alternative and is designed to continue delivery of irrigation water to the irrigation district while improving the efficiency of the water delivery system and on-farm efficiencies. A public process will be undertaken to establish uses for the water saved through facility and on-farm efficiencies, and could include recreation, fisheries, downstream flows, irrigation or other uses. There are no significant environmental, socioeconomic, or agricultural impacts associated with the Improved Efficiencies Alternative when compared to the No Action Alternative. The long-term water service contract with the Angostura Irrigation District will have a term of 25 years beginning on January 1, 2003.

Locations for Inspection and Review of the FEIS

• Bureau of Reclamation, Dakotas Area Office, Rapid City Field Office, 515 9th Street, Room 101, Rapid City, SD 57701—telephone (605) 394-9757 x3004.

• Bureau of Reclamation, Dakotas Area Office, 304 East Broadway, Bismarck, ND 58502—telephone (701) 250-4242.

• Bureau of Reclamation, Great Plains Regional Office, 316 North 26th Street, Billings, MT 59101—telephone (406) 247-7720.

• Bureau of Reclamation, Reclamation Service Center Library, Building 67, Room 167, Denver Federal Center, Sixth and Kipling, Denver, CO 80225—telephone (303) 445-2072.

• Bureau of Reclamation, Program Analysis Office, Room 7456, 1849 C Street NW, Washington, DC 20240—telephone (202) 208-4662.

• Angostura Irrigation District, Main Street, Oral, SD 57766.

Libraries

• South Dakota State Library, Mercedes MacKay Building, 800 Governors Drive, Pierre, SD 57501-2294.

• Rapid City Public Library, 610 Quincy Street, Rapid City, SD 57701-3655.

• Hot Springs Library, 1543 Baltimore Avenue, Hot Springs, SD 57747.

• Custer County Library, 447 Crook #4, Custer, SD 57730.

• Oglala Lakota College, 3 Mile Creek, Piya Wiconi Road, Kyle, SD 57752.

• Cheyenne River Community College, Main Street, Box 212, Eagle Butte, SD 57625.

• Lower Brule Tribal Library, Lower Brule Sioux Tribe, Lower Brule, SD 57548.

• Pine Ridge Library, Main St., Box 439, Pine Ridge, SD 57770.

Dated: July 23, 2002.
Maryanne C. Bach,
Regional Director.

[FR Doc. 02-21511 Filed 8-22-02; 8:45 am]

BILLING CODE 4310-MN-P